DEPARTMENT OF JUSTICE

Bureau of Prisons

Annual Determination of Average Cost of Incarceration

AGENCY: Bureau of Prisons, Justice.

ACTION: Notice.

SUMMARY: The fee to cover the average cost of incarceration for Federal inmates in Fiscal Year 2009 was $25,251. The average annual cost to confine an inmate in a Community Corrections Center for Fiscal Year 2009 was $24,758.

DATES: Effective Date: February 3, 2011.

ADDRESSES: Office of General Counsel, Federal Bureau of Prisons, 320 First St., NW., Washington, DC 20534.

FOR FURTHER INFORMATION CONTACT: Sarah Qureshi, (202) 307-2105.

SUPPLEMENTARY INFORMATION: 28 CFR part 505 allows for assessment and collection of a fee to cover the average cost of incarceration for Federal inmates. We calculate this fee by dividing the number representing Bureau facilities' monetary obligation (excluding activation costs) by the number of inmate-days incurred for the preceding fiscal year, and then by multiplying the quotient by 365.

Under § 505.2, the Director of the Bureau of Prisons determined that, based upon fiscal year 2009 data, the fee to cover the average cost of incarceration for Federal inmates in Fiscal Year 2009 was $25,251. The average annual cost to confine an inmate in a Community Corrections Center for Fiscal Year 2009 was $24,758.

Harley G. Lappin,
Director, Bureau of Prisons.

[FR Doc. 2011-2363 Filed 2-2-11; 8:45 am]

BILLING CODE 4410-05-P